DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and property that have been placed on OFAC's Specially Designated Nationals and Blocked Persons List (SDN List) based on OFAC's determination that one or more applicable legal criteria were satisfied. All property and interests in property subject to U.S. jurisdiction of these persons and property are blocked, and U.S. persons are generally prohibited from engaging in transactions with them.

DATES: See SUPPLEMENTARY INFORMATION section for effective date(s).

FOR FURTHER INFORMATION CONTACT: OFAC: Associate Director for Global Targeting, tel.: 202-622-2420; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On October 2, 2024, OFAC determined that the property and interests in property subject to U.S. jurisdiction of the following persons and property are blocked under the relevant sanctions authorities listed below.

Individual

1. AL-KUHLANI, Hasan Ahmad Hasan Muhammad (a.k.a. AL-DAHRAH, Ebrahim Mohammad Ghaleb; a.k.a. “ABU-SHAHID”), Iran; DOB 1982 to 1984; nationality Yemen; Gender Male; Secondary sanctions risk: section 1(b) of Executive Order 13224, as amended by Executive Order 13886; Passport 06587863 (Yemen) expires 05 Jun 2028 (individual) [SDGT] (Linked To: ANSARALLAH).

Designated pursuant to section 1(a)(iii)(A) of Executive Order 13224 of September 23, 2001, “Blocking Property and Prohibiting Transactions With Persons Who Commit, Threaten to Commit, or Support Terrorism” (E.O. 13224), 66 FR 49079, as amended by Executive Order 13886 of September 9, 2019, “Modernizing Sanctions To Combat Terrorism,” 84 FR 48041 (E.O. 13224, as amended) for having acted or purported to act for or on behalf of, directly or indirectly, ANSARALLAH, a person whose property and interests in property are blocked pursuant to E.O. 13224, as amended.

Entities

1. GEMINI MARINE LIMITED (a.k.a. GEMINI MARINE LTD-MAI), Trust Company Complex, Ajeltake Road, Majuro, Ajeltake Island 96960, Marshall Islands; Secondary sanctions risk: section 1(b) of Executive Order 13224, as amended by Executive Order 13886; Organization Established Date 06 Feb 2024; Identification Number IMO 6482373; Registration Number 124153 (Marshall Islands) [SDGT] [IFSR] (Linked To: SEPEHR ENERGY JAHAN NAMA PARS COMPANY).

Designated pursuant to section 1(a)(iii)(C) of E.O. 13224, as amended, for having materially assisted, sponsored, or provided financial, material, or technological support for, or goods or services to or in support of, SEPEHR ENERGY JAHAN NAMA PARS COMPANY, a person whose property and interests in property are blocked pursuant to E.O. 13224, as amended.

2. SHENZHEN BOYU IMPORTS AND EXPORTS CO., LTD. (a.k.a. SHENZHEN BOYU IMPORT EXPORT COMPANY LIMITED), Cui Zhui Jie Dao Wen Jin Lu Dong Wen Jin Guang Chang Wen An Zhong, Xin, Shenzhen, Guangdong Province 51800, China; Secondary sanctions risk: section 1(b) of Executive Order 13224, as amended by Executive Order 13886; Organization Established Date 15 Mar 2010; Unified Social Credit Code (USCC) 91440300552135659Y (China) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

3. SHENZHEN JINGHON ELECTRONICS LIMITED (a.k.a. JINGHON ELECTRONICS LIMITED; a.k.a. SHENZHEN JINGHONG ELECTRONIC TECHNOLOGY CO. LTD.; a.k.a. “JH CIRCUITS”), #2F195, Block B, Building Gusuhuating, 38 Gushu First Road, Xixiang Street, Bao'an District, Shenzhen, Guangdong, China; Room 602, Building C, Qianwan High Technology Industrial Park, Bao'an District, Shenzhen, Guangdong, China; website www.jhcircuits.com; Secondary sanctions risk: section 1(b) of Executive Order 13224, as amended by Executive Order 13886; Organization Established Date 29 Jun 2016; Unified Social Credit Code (USCC) 91440300MA5DFHBE0X (China) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

4. SHENZHEN RION TECHNOLOGY CO., LTD. (a.k.a. RION TECHNOLOGY), 4F, Building 1, Phase II Workshop, Fu'an Industrial City, Dayang Development Zone, Fuyong Sub-District, Baoan District, Shenzhen, Guangdong 518100, China; No. 90, Dayang Road, Fuyong Town, Baoan District, Shenzhen, Guangdong 518100, China; website www.rion-tech.net; alt. website www.rionsystem.com; Additional Sanctions Information—Subject to Secondary Sanctions; Secondary sanctions risk: section 1(b) of Executive Order 13224, as amended by Executive Order 13886; Organization Established Date 24 Apr 2008; Unified Social Credit Code (USCC) 914403006748114670 (China) [SDGT] [NPWMD] [IFSR] (Linked To: MINISTRY OF DEFENSE AND ARMED FORCES LOGISTICS; Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

Vessels

1. IZUMO (a.k.a. CATHAY PHOENIX) (TRBQ9) Crude Oil Tanker Gabon flag; Secondary sanctions risk: section 1(b) of Executive Order 13224, as amended by Executive Order 13886; Vessel Registration Identification IMO 9249324; MMSI 626466000 (vessel) [SDGT] [IFSR] (Linked To: GEMINI MARINE LIMITED).

Identified as property in which GEMINI MARINE LIMITED, a person whose property and interests in property are blocked pursuant to E.O. 13224, as amended, has an interest.

2. FRUNZE (E5U4323) Crude Oil Tanker Cook Islands flag; Secondary sanctions risk: section 1(b) of Executive Order 13224, as amended by Executive Order 13886; Vessel Registration Identification IMO 9263643; MMSI 518998343 (vessel) [SDGT] [IFSR] (Linked To: GEMINI MARINE LIMITED).

Identified as property in which GEMINI MARINE LIMITED, a person whose property and interests in property are blocked pursuant to E.O. 13224, as amended, has an interest.

Lisa M. Palluconi,
Acting Director, Office of Foreign Assets Control, U.S. Department of the Treasury.

[FR Doc. 2024-23154 Filed 10-4-24; 8:45 am]

BILLING CODE 4810-AL-P